DEPARTMENT OF TRANSPORTATION

Federal Aviation Administration

[Docket No. FAA-2020-0416]

Agency Information Collection Activities: Requests for Comments; Clearance of Renewed Approval of Information Collection: Dealer's Aircraft Registration Certificate Application

AGENCY: Federal Aviation Administration (FAA), DOT.

ACTION: Notice and request for comments.

SUMMARY: In accordance with the Paperwork Reduction Act of 1995, FAA invites public comments about our intention to request Office of Management and Budget (OMB) approval to renew an information collection. The collection involves submission of an AC Form 8050-5, Dealer's Aircraft Registration Certificate Application, by companies or individuals to obtain a Dealer's Aircraft Registration Certificate, which allows operation of an aircraft instead of obtaining a permanent aircraft registration certificate. The information collection is necessary for a dealer to operate an aircraft without a permanent aircraft registration certificate and to comply with statutory and regulatory requirements.

DATES: Written comments should be submitted by June 22, 2020.

ADDRESSES: Please send written comments:

By Electronic Docket: www.regulations.gov (Enter docket number into search field).

By mail: Kenneth W. Thompson, Manager, Aircraft Registration Branch, AFB-710, P.O. Box 25504, Oklahoma City, OK 73125.

By fax: 405-954-8068.

FOR FURTHER INFORMATION CONTACT: Bonnie Lefko by email at: bonnie.lefko@faa.gov; phone: 405-954-7461.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0024.

Title: Dealer's Aircraft Registration Certificate Application.

Form Numbers: AC Form 8050-5.

Type of Review: Renewal.

Background: Public Law 103-272 states that all aircraft must be registered before being flown. Federal Aviation Regulation 14 CFR part 47, subpart C, outlines the requirements for dealers to obtain a dealer's registration certificate to operate aircraft in lieu of obtaining a permanent aircraft registration certificate. Any individual or company engaged in manufacturing, distributing, or selling aircraft who wants to operate aircraft with a dealer's certificate may apply. Applicants complete the AC Form 8050-5, Dealer's Aircraft Registration Certificate Application. A dealer's certificate is valid for one year from the issuance date. A dealer must re-apply annually to maintain their certificate.

Respondents: Companies or Individuals engaged in manufacturing, distributing, or selling aircraft.

Frequency: Annually to maintain a certificate.

Estimated Average Burden per Response: 45 minutes.

Estimated Total Annual Burden: During FY 2019, the FAA received 3,670 applications for dealer's certificates for a total annual burden of 2,753 hours.

Issued in Oklahoma City, OK, on April 17, 2020.
Bonnie Lefko,
Program Analyst, Civil Aviation Registry, Aircraft Registration Branch, AFB-711.

[FR Doc. 2020-08567 Filed 4-22-20; 8:45 am]

BILLING CODE 4910-13-P